DEPARTMENT OF THE INTERIOR

National Park Service

[NPS-WASO-NAGPRA-21090: PPWOCRADN0-PCU00RP14.R50000]

Notice of Inventory Completion: Los Angeles County Museum of Natural History, Los Angeles, CA

AGENCY: National Park Service, Interior.

ACTION: Notice.

SUMMARY: The Los Angeles County Museum of Natural History (LACMNH) has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Los Angeles County Museum of Natural History. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Los Angeles County Museum of Natural History at the address in this notice by July 8, 2016.

ADDRESSES: Dawn McDivitt, Chief Deputy Director, Los Angeles County Museum of Natural History, 900 Exposition Boulevard, Los Angeles, CA 90007, telephone (213) 763-3306, email dmcdivitt@nhm.org.

SUPPLEMENTARY INFORMATION: Notice is here given in accordance with the Native American Graves Protection and Repatriation Act (NAGPRA), 25 U.S.C. 3003, of the completion of an inventory of human remains under the control of the Los Angeles County Museum of Natural History, Los Angeles, CA. The human remains were removed from near the former town of Ainsworth, in Franklin County, WA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Los Angeles County Museum of Natural History professional staff in consultation with representatives of the Confederated Tribes and Bands of the Yakama Nation, Washington; Confederated Tribes of the Colville Reservation; Confederated Tribes of the Umatilla Indian Reservation (previously listed as the Confederated Tribes of the Umatilla Reservation, Oregon); Confederated Tribes of the Warm Springs Reservation of Oregon; Nez Perce Tribe (previously listed as the Nez Perce Tribe of Idaho); and the Wanapum Band of Priest Rapids, a non-federally recognized Indian group.

History and Description of the Remains

In October 1905, human remains representing, at minimum, one individual (Natural History Museum Number A.4262.37-1) were removed from the confluence of the Snake and Columbia Rivers near the former town of Ainsworth, in Franklin County, WA. The burial was found 30 feet from the Columbia River shoreline during the course of excavation for a temporary wharf at the mouth of the Snake River. According to accession records at the Los Angeles County Natural History Museum, the burial was reportedly found six feet below the surface. The skull and mandible of a young person of indeterminate sex between the ages of 20 to 25 years were reportedly collected. The remains were stained green by copper salts. The left frontal bone showed an injury which had healed prior to the death of the individual. The remains were gifted to the LACNMH on 28 August 1937, by Leon G. Fell of Bakersfield, California, under accession number A.4262.37-1. No known individuals were identified. No associated funerary objects are present.

Today, the collection consists of a single mandible with green staining; the cranium is absent. The tribes with which the Museum consulted have noted that such green staining is typical of other human remains that have been culturally affiliated with the Plateau Culture from along the Snake and Columbia Rivers.

Prehistorically, the Ainsworth, Washington area was occupied seasonally by people of the Plateau Culture for at least 5,000 years. Ethnographers agree that the Plateau Culture people were Sahaptin speakers of the Palus, Walúulapam (Walla Walla), Imatalamláma (Umatilla), and Wanapam/Wanapum.

On their historic journey to the Pacific Ocean, Lewis and Clark noted being visited by Sahaptin speaking people on October 16, 1805, while at the mouth of the Snake River, which they called the Kimooenim or Lewis's River. The captains met two groups of Indians at their camp at the mouth of the Snake River, the Chimnapams and Sokulks, or what is today known as the Yakamas and Wanapums respectively. The Yakamas lived in villages along both sides of the Columbia River in the vicinity of present-day Pasco, Washington, north of the Snake River. The Wanapum lived further up the Columbia on the west bank, north of present-day Richland, Washington. Many Wallula and some Umatilla people lived north and south of the Snake River, too, as the river area was important as a valuable fishing and trading location.

Descendants of these communities are present-day members of the Confederated Tribes of the Colville Reservation, Washington; Confederated Tribes of the Umatilla Indian Reservation, Oregon; Confederated Tribes of the Warm Springs Reservation of Oregon; Confederated Tribes and Bands of the Yakama Nation, Washington; Nez Perce Tribe, Idaho; and the Wanapum Band of Priest Rapids, a non-federally recognized Indian group.

Determinations Made by the Los Angeles County Museum of Natural History

Officials of the Los Angeles County Museum of Natural History have determined that:

• Pursuant to 25 U.S.C. 3001(9), the human remains described in this notice represent the physical remains of one individual of Native American ancestry.

• Pursuant to 25 U.S.C. 3001(2), there is a relationship of shared group identity that can be reasonably traced between the Native American human remains and the Confederated Tribes of the Colville Reservation, Washington; Confederated Tribes of the Umatilla Indian Reservation, Oregon; Confederated Tribes of the Warm Springs Reservation of Oregon; Confederated Tribes and Bands of the Yakama Nation, Washington; Nez Perce Tribe, Idaho; and the Wanapum Band of Priest Rapids, a non-federally recognized Indian group.

Additional Requestors and Disposition

Lineal descendants or representatives of any Indian tribe or Native Hawaiian organization not identified in this notice that wish to request transfer of control of these human should submit a written request with information in support of the request to Dawn McDivitt, Chief Deputy Director, Los Angeles County Museum of Natural History, 900 Exposition Boulevard, Los Angeles, CA 90007, telephone (213) 763-3306, email dmcdivitt@nhm.org, by July 8, 2016. After that date, if no additional requestors have come forward, transfer of control of the human remains to the Confederated Tribes and Bands of the Yakama Nation, Washington; Confederated Tribes of the Colville Reservation, Washington; Confederated Tribes of the Umatilla Indian Reservation, Oregon; Confederated Tribes of the Warm Springs Reservation of Oregon; Nez Perce Tribe, Idaho; and the Wanapum Band, a non-federally recognized Indian group (if joined to one or more of the above Indian tribes) may proceed.

The Los Angeles County Museum of Natural History is responsible for notifying the Confederated Tribes and Bands of the Yakama Nation, Washington; Confederated Tribes of the Colville Reservation, Washington; Confederated Tribes of the Umatilla Indian Reservation, Oregon; Confederated Tribes of the Warm Springs Reservation of Oregon; Nez Perce Tribe, Idaho; and the Wanapum Band, a non-federally recognized Indian group that this notice has been published.

Dated: May 16, 2016.
Melanie O'Brien,
Manager, National NAGPRA Program.

[FR Doc. 2016-13594 Filed 6-7-16; 8:45 am]

BILLING CODE 4312-50-P